DEPARTMENT OF THE INTERIOR

Central Utah Project Completion Act

AGENCY: Department of the Interior, Office of the Assistant Secretary—Water and Science (Interior).

ACTION: Notice of intent to prepare an Environmental Assessment for the Implementation of a Conjunctive Use Water Efficiency project in Eastern Juab County, Utah

SUMMARY: Pursuant to the National Environmental Policy Act of 1969, the Department of the Interior, Central Utah Project Completion Act Office, and the Central Utah Water Conservancy District, as Joint Leads, will prepare an Environmental Assessment of the impacts associated with implementation of a Conjunctive Use Water Efficiency project in East Juab County, Utah.

This project anticipates the rehabilitation of several existing wells, as well as the potential development of additional groundwater wells, in order to more efficiently utilize existing ground-water supplies in conjunction with existing surface water supplies.

The project further anticipates implementation of additional centralized or distributed booster pump capability, extension of associated distribution system pipelines and overhead power lines, and development and implementation of a supervisory control and data acquisition (SCADA) system.

Also anticipated is the construction of a bypass pipeline along a segment of existing irrigation canal to reduce loss of water during the late irrigation season period of water shortage and perforated infiltration pipelines to recharge water to the groundwater basin at other times.

DATES: Date and location for public scoping will be announced locally.

SUPPLEMENTARY INFORMATION: The Bonneville Unit of the Central Utah Project was authorized to develop central Utah's water resources. Both the 1987 Final Supplement to the Final Environmental Impact Statement for the Municipal and Industrial System, Bonneville Unit, Central Utah Project (FEIS) and the 2004 Supplement to the 1988 Definite Plan Report for the Bonneville Unit (DPR) anticipated additional water development in East Juab County. Under the authority of Section 202 of the Central Utah Project Completion Act (P.L. 102-575), the Secretary of the Interior oversees Bonneville Unit water development, and specifically has authority to provide cost share associated with Conjunctive Use investigations and projects.

Information, Comments, and Inquiries: Additional information on matters related to this notice can be obtained from: Mr. Lee G. Baxter, 302 East 1860 South, Provo, Utah 84606, (801) 379-1174, lbaxter@uc.usbr.gov.

Dated: March 17, 2008.
Reed R. Murray,
Program Director, Department of the Interior.

[FR Doc. E8-5740 Filed 3-20-08; 8:45 am]

BILLING CODE 4310-RK-P